DEPARTMENT OF HEALTH AND HUMAN SERVICES

National Institutes of Health

Government-Owned Inventions; Availability for Licensing

AGENCY: National Institutes of Health, Public Health Service, DHHS.

ACTION: Notice.

SUMMARY: The inventions listed below are owned by an agency of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent applications.

A32 Monoclonal Antibody Fusion Protein for Use as HIV Inhibitors and Vaccines

Dimiter S. Dimitrov and Mei-yun Zhang (NCI).

U.S. Provisional Application No. 60/618,820 filed 14 Oct 2004 (HHS Reference No. E-302-2004/0-US-01).

Licensing Contact: Sally Hu; 301/435-5606; hus@mail.nih.gov.

The invention provides composition claims of a fusion protein, which comprises an antigen binding portion of a human antibody called A32 and one of the following: (a) An antigen-binding portion of a second antibody that binds to an epitope of an envelope protein (i.e., gp120) of a human immunodeficiency virus (HIV) that is exposed upon the HIV binding to a CD4 receptor, (b) an immunogenic portion of an envelope protein of a HIV such as gp120, or (c) a soluble CD4 (sCD4) polypeptide capable of binding to HIV. The invention also provides the method claims to use the above fusion proteins as inhibitors of HIV infection and those containing gp120 such as A32-gp120 as vaccine immunogens for the treatment and prevention of HIV. Further development of the fusion proteins may yield novel therapies and methods in the prevention of mother-to-child transmission of HIV, treatment of accidental exposure to HIV, and chronic infection in patients with resistance to current therapies.

In addition to licensing, the technology is available for further development through collaborative research opportunities with the inventors.

Plasmid and Viral Vectors Expressing a Microtubule-Directed Fluorescent Fusion Protein for Cellular Imaging

Dr. Michael J. Iadarola et al. (NIDCR).

HHS Reference No. E-153-1999/0—Research Tool.

Licensing Contact: Marlene Shinn-Astor; 301/435-4426; shinnm@mail.nih.gov.

This technology is a fluorescent protein for discrete tracing of intra- and intercellular connections and for sorting and isolation of cells. This recombinantly engineered protein can be expressed from viral vectors for use in living animals and in ex vivo situations involving primary cultured cells or from a plasmid for use in cell lines. The new protein consists of a fusion between the tau protein, which binds to microtubules, and enhanced green fluorescent protein (tau-eGFP). When cloned into adenovirus, the contrast can be used for transducing primary cultures for ex vivo gene therapy and for use as an anterograde tracer in brain circuit analysis. These uses can be a valuable research tool to help scientists find out how the brain works, investigate Alzheimer's disease, and to identify specific cells for treating disease via cell transplantation.

Dated: July 19, 2005.
Steven M. Ferguson,
Director, Division of Technology Development and Transfer, Office of Technology Transfer, National Institutes of Health.

[FR Doc. 05-15348 Filed 8-2-05; 8:45 am]

BILLING CODE 4140-01-P